DEPARTMENT OF ENERGY

Federal Energy Regulatory Commission

[Docket No. CP01-370-001]

Williston Basin Interstate Pipeline Company, Frontier Gas Storage Company; Notice of Tariff Filing

September 5, 2001

Take notice that on August 14, 2001, Williston Basin Interstate Pipeline Company (Williston Basin) and Frontier Gas Storage Company (Frontier) tendered for filing the following tariff sheets:

Williston Basin Interstate Pipeline Company

Second Revised Volume No. 1

Effective July 30, 2001

Second Revised Sheet No. 227C

Fifth Revised Sheet No. 228

Tenth Revised Sheet No. 229

Third Revised Sheet No. 229A

Sixth Revised Sheet No. 230

Fourth Revised Sheet No. 230A

Third Revised Sheet No. 247

Sixth Revised Sheet No. 252

Fifth Revised Sheet No. 376

Original Volume No. 2

Effective July 30, 2001

Ninth Revised Sheet No. 2

1st Rev 85th Revised Sheet No. 11B

Sheet Nos. 216-221

Sheet Nos. 272-290

Williston Basin Interstate Pipeline Company

Original Volume No. 2

Effective August 1, 2001

Sub Eighty-Sixth Revised Sheet No. 11B

Frontier Gas Storage Company

Original Volume No. 1

Effective July 30, 2001

First Revised Sheet No. 1

Original Volume No. 2

Effective July 30, 2001

Second Revised Sheet No. 1

Williston Basin and Frontier state that on May 18, 2001, they filed in the above-referenced docket, pursuant to Section 7(b) of the Natural Gas Act and the Commission's Regulations thereunder, a Joint Abbreviated Application requesting the Commission to issue an order authorizing Williston Basin to abandon transportation and storage services it provided for Frontier under Rate Schedules X-9 and X-11 of Williston Basin's FERC Gas Tariff, Original Volume No. 2 and authorizing Frontier to abandon sales of gas under its FERC Gas Tariff, Original Volume Nos. 1 and 2 (including most specifically Rate Schedule LVS-1).

As part of its Application, Williston Basin filed revised pro forma tariff sheets to its FERC Gas Tariff, Second Revised Volume No. 1 and Original Volume No. 2 and Frontier filed pro forma tariff sheets to its FERC Gas Tariff, original Volume Nos. 1 and 2. On July 30, 2001, the Commission issued its “Order Granting Abandonment” which authorized Williston Basin and Frontier to abandon the services described above and requiring Williston Basin and Frontier to file tariff sheets in compliance with Part 154 of the Commission's Regulations.

Williston Basin and Frontier state that the referenced tariff sheets are being filed to reflect the abandonment authorized by the Commission in its July 30, 2001 order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR, 385.2001(a)(1)(iii) and the instructions on the Commission's web site under the “e-Filing” link.

David P. Boergers,
Secretary.

[FR Doc. 01-22716 Filed 9-10-01; 8:45 am]

BILLING CODE 6717-01-P